DEPARTMENT OF THE TREASURY

Office of Foreign Assets Control

Unblocking of Specially Designated Nationals and Blocked Persons Pursuant to Executive Order 12978

AGENCY: Office of Foreign Assets Control, Treasury.

ACTION: Notice.

SUMMARY: The U.S. Department of the Treasury's Office of Foreign Assets Control (“OFAC”) is publishing the names of seven individuals and nine entities whose property and interests in property have been unblocked pursuant to Executive Order 12978 of October 21, 1995, Blocking Assets and Prohibiting Transactions With Significant Narcotics Traffickers.

DATES: The unblocking and removal from the list of Specially Designated Nationals and Blocked Persons (“SDN List”) of the seven individuals and nine entities identified in this notice whose property and interests in property were blocked pursuant to Executive Order 12978 of October 21, 1995, is effective on August 3, 2011.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On July 20, 2011, the Director of OFAC removed from the SDN List the seven individuals and nine entities listed below, whose property and interests in property were blocked pursuant to the Order:

Individuals

1. Alzate Jimenez, Diego Uriel, c/o Andinaenvios An En S.A., Quito, Ecuador; c/o CAMBIOS Y CAPITALES S.A., Bogota, Colombia; c/o Financiacion Y Empresa S.A., Cali, Colombia; c/o Fundacion Para La Educacion Y El Desarrollo Social, Cali, Colombia; c/o Inversiones Corporativas LTDA., Cali, Colombia; c/o Inversiones Sardi Alzate S.C.S., Cali, Colombia; c/o Outsourcing De Operaciones S.A., Bogota, Colombia; c/o Turismo Hansa S.A., San Andres, Colombia; DOB 13 Aug 1959; POB Colombia; Cedula No. 16658014 (Colombia); Passport 16658014 (Colombia) (individual) [SDNT]

2. Alzate Jimenez, Luis Holmes, c/o Andinaenvios An En S.A., Quito, Ecuador; c/o CAMBIOS Y CAPITALES S.A., Bogota, Colombia; c/o Fundacion Para La Educacion Y El Desarrollo Social, Cali, Colombia; c/o Turismo Hansa S.A., San Andres, Colombia; Calle 5E No. 47-57 apto. 302, Cali, Colombia; DOB 04 Jun 1958; POB Colombia; Cedula No. 16597861 (Colombia); Passport AF719920 (Colombia) (individual) [SDNT]

3. Alzate Jimenez, Tulio Hernando, c/o Andinaenvios An EN S.A.; Quito, Ecuador; c/o Cambios Y Capitales S.A., Bogota, Colombia; c/o Constructora E Inmobiliaria Andina S.A., Cali, Colombia; c/o Financiacion Y Empresa S.A., Cali, Colombia; c/o Fundacion Para La Educacion Y El Desarrollo Social, Cali, Colombia; c/o Inversiones Corporativas LTDA., Cali, Colombia; c/o T.H. Alzate Y CIA. S.C.S., Cali, Colombia; c/o Turismo Hansa S.A., San Andres, Colombia; DOB 28 Mar 1961; POB Colombia; Cedula No. 16659731 (Colombia); Passport AF770530 (Colombia) (individual) [SDNT]

4. Caviedes Lopez, Gloria Ines, c/o Distribuciones Glomil LTDA., Cali, Colombia; DOB 20 Oct 1959; Cedula No. 42002286 (Colombia); Passport 42002286 (Colombia) (individual) [SDNT]

5. Cortes Quintero, Sandra, c/o Credisa S.A., Cali, Colombia; c/o Compania De Fomento Mercantil S.A., Cali, Colombia; c/o Construcciones Progreso Del Puerto S.A., Puerto Tejada, Colombia; c/o UNIDAS S.A., Cali, Colombia; DOB 21 Jun 1971; POB Cali, Valle, Colombia; Cedula No. 66827003 (Colombia); Passport 66827003 (Colombia) (individual) [SDNT]

6. Rengifo Valverde, Fabian Francisco, c/o APVA S.A., Cali, Colombia; c/o CECEP S.A., Cali, Colombia; c/o CECEP Editores S.A., Cali, Colombia; c/o Negocios Y Capitales S.A., Pereira, Colombia; c/o RFA Consultores Y Auditores LTDA., Cali, Colombia; c/o World Line System S.A., Palmira, Valle, Colombia; Cali, Colombia; DOB 18 Oct 1963; Cedula No. 16690994 (Colombia) (individual) [SDNT]

7. Rojas Becerra, Andres Felipe, c/o Comercializadora Intertel S.A., Cali, Colombia; c/o Contactel Comunicaciones S.A., Cali, Colombia; DOB 18 Feb 1978; Cedula No. 94520044 (Colombia); Passport 94520044 (Colombia) (individual) [SDNT]

Entities

1. Andinaenvios An En S.A., Avenida 10 de Agosto N37-288 y Villalengua, Quito, Ecuador; RUC # 1791769155001 (Ecuador) [SDNT]

2. Cambios Y Capitales S.A. (a.k.a. C & CAP S.A.), Calle 12N No. 3N-12, Cah, Colombia; Calle 19 No. 6-48 Local 314-315, Pereira, Colombia; Calle 27 No. 26-60 Local 105 D, Tulua, Valle, Colombia; Calle 29 No. 27-56 Local 102, Palmira, Valle, Colombia; Calle 99 No. 11A-4I, Bogota, Colombia; Carrera 4 No. 10-62 Local 15, Cartago, Valle, Colombia; Carrera 15 No. 93-60 Local 1-36, Bogota, Colombia; Carrera 43A No. 34-95 Local 268, Medellin, Colombia; Carrera 44 No. 6A-43 piso 2, Cali, Colombia; Centro Comercial New Point, Avenida Providencia No. 1-35 Local 106, San Andres, Colombia; Transversal 71 No. 26-94 Sur Local 4506, Bogota, Colombia; NIT # 805001015-5 (Colombia) [SDNT]

3. Constructora E Inmobiliaria Andina S.A., Calle 16 Norte No. 9N-41, Cah, Colombia; NIT # 800155233-7 (Colombia) [SDNT]

4. Financiacion Y Empresa S.A. (a.k.a. Finempresa S.A.), Calle 16 Norte No. 9N-4I, Cali, Colombia; NIT # 800153965-0 (Colombia) [SDNT]

5. Fundacion Para La Educacion Y el desarrollo social (a.k.a. Fundasocial), Calle 16 Norte No. 9N-41, Cali, Colombia; NIT # 800142875-9 (Colombia) [SDNT]

6. Inversiones Corporativas LTDA., Calle 16 Norte No. 9N-41, Cali, Colombia; NIT # 800203027-2 (Colombia) [SDNT]

7. INVERSIONES SARDI ALZATE S.C.S., Calle 16 Norte No. 9N-41, Cali, Colombia; NIT # 805009126-0 (Colombia) [SDNT]

8. Outsourcing De Operaciones S.A. (a.k.a. AFIAZACREDIT; a.k.a. AVANTECARD; a.k.a. Crediavante; f k.a. Servicios Y Remesas S.A.; a.k.a. TURISMO AVANTE), Calle 52A No. 9-86 piso 2 y piso 3, Bogota, Colombia; NIT # 805021157-8 (Colombia) [SDNT]

9. T.H. Alzate Y CIA. S.C.S., Calle 16 Norte No. 9N-41, Cali, Colombia; NIT # 805008972-0 (Colombia) [SDNT]

Dated: August 3, 2011.
Adam J. Szubin,
Director, Office of Foreign Assets Control.

[FR Doc. 2011-20228 Filed 8-8-11; 8:45 am]

BILLING CODE 4810-AL-P